DEPARTMENT OF TRANSPORTATION

Federal Aviation Administration

14 CFR Part 39

[Docket No. FAA-2012-1088; Directorate Identifier 2012-SW-005-AD; Amendment 39-17387; AD 2013-05-15]

RIN 2120-AA64

Airworthiness Directives; Robinson Helicopter Company Helicopters

AGENCY: Federal Aviation Administration (FAA), DOT.

ACTION: Final rule.

SUMMARY: We are adopting a new airworthiness directive (AD) for Robinson Helicopter Company (Robinson) Model R44 and R44 II helicopters equipped with emergency floats. This AD requires replacing the inflation valve assembly. This AD was prompted by the failure of the emergency floats to deploy during a factory test because a needle was binding within the inflation valve assembly. The actions are intended to prevent the failure of the floats to inflate during an emergency landing.

DATES: This AD is effective April 30, 2013.

ADDRESSES: For service information identified in this AD, contact Robinson Helicopter Company, 2901 Airport Drive, Torrance, CA 90505; telephone (310) 539-0508; fax (310) 539-5198; or at http://www.robinsonheli.com. You may review a copy of the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Venessa Stiger, Aerospace Engineer, Cabin Safety/Mechanical & Environmental Systems, Los Angeles Aircraft Certification Office, Transport Airplane Directorate, FAA, 3960 Paramount Blvd., Lakewood, CA 90712-4137; telephone (562) 627-5337; email venessa.stiger@faa.gov.

SUPPLEMENTARY INFORMATION:

Discussion

On October 16, 2012, at 77 FR 63260, the Federal Register published our notice of proposed rulemaking (NPRM), which proposed to amend 14 CFR part 39 to include an AD that would apply to Robinson Helicopter Company (Robinson) Model R44 and R44 II helicopters with emergency floats equipped with an inflation valve assembly, part number (P/N) D757-1, not engraved with “D758-4” or modified with modification B900-8, and containing a housing assembly, P/N D758-1, Revision C or prior. That NPRM proposed to require replacing the inflation valve assembly because the emergency floats failed to deploy during a factory test. The proposed requirements were intended to prevent the failure of the floats to inflate during an emergency landing.

Comments

We gave the public the opportunity to participate in developing this AD, but we received no comments on the NPRM (77 FR 63260, October 16, 2012).

FAA's Determination

We have reviewed the relevant information and determined that an unsafe condition exists and is likely to exist or develop on other products of these same type designs and that air safety and the public interest require adopting the AD requirements as proposed.

Related Service Information

We have reviewed Robinson R44 Service Bulletin SB-80, dated September 7, 2011 (SB), which describes procedures for upgrading certain valve assemblies within the next 250 flight hours or by June 30, 2012, whichever occurs first. The SB reports that during a factory test of pop-out emergency floats the floats failed to inflate because of a stuck cylinder valve.

Differences Between This AD and the Service Information

This AD requires replacing the inflation valve assembly within 1 year or 500 hours TIS, whichever occurs first. The SB specifies replacing the assembly within 250 flight hours or by June 30, 2012, whichever occurs first. We used the Monitor Safety/Analyze Data (MSAD) process and were able to predict when the next occurrence would likely occur if no repairs were completed.

Costs of Compliance

We estimate that this AD affects 165 helicopters of U.S. Registry and that the labor cost averages $85 per work-hour. Based on these assumptions, we estimate that replacing the inflation valve assembly takes 2.5 work-hours for a labor cost of about $213. Parts cost $850 to $955 for a total cost per helicopter of $1,063 to $1,168.

According to Robinson's service information, some or all of the costs of this AD may be covered under warranty, thereby reducing the cost impact on affected individuals. We do not control warranty coverage. Accordingly, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-05-15 Robinson Helicopter Company: Amendment 39-17387; Docket No. FAA-2012-1088; Directorate Identifier 2012-SW-005-AD.

(a) Applicability

This AD applies to Robinson Helicopter Company (Robinson) Model R44 and R44 II helicopters with emergency floats equipped with an inflation valve assembly, part number (P/N) D757-1, not engraved with “D758-4” or modified with modification B900-8, and containing a housing assembly, P/N D758-1, Revision C or prior, certificated in any category.

(b) Unsafe Condition

This AD defines the unsafe condition as binding of the needle within the float inflation valve assembly, which has resulted in the emergency floats failing to inflate.

(c) Effective Date

This AD becomes effective April 30, 2013.

(d) Compliance

You are responsible for performing each action required by this AD within the specified compliance time unless it has already been accomplished prior to that time.

(e) Required Actions

Within 1 year or 500 hours time-in-service (TIS), whichever occurs first, replace the inflation valve assembly with an airworthy inflation valve assembly, P/N D757-1R.

(f) Alternative Methods of Compliance (AMOCs)

(1) The Manager, Los Angeles Aircraft Certification Office, FAA, may approve AMOCs for this AD. Send your proposal to: Venessa Stiger, Aerospace Engineer, Cabin Safety/Mechanical & Environmental Systems, Los Angeles Aircraft Certification Office, Transport Airplane Directorate, FAA, 3960 Paramount Blvd., Lakewood, CA 90712-4137; telephone (562) 627-5337; email venessa.stiger@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

Robinson R44 Service Bulletin SB-80, dated September 7, 2011, which is not incorporated by reference, contains additional information about the subject of this AD. For service information identified in this AD, contact Robinson Helicopter Company, 2901 Airport Drive, Torrance, CA 90505; telephone (310) 539-0508; fax (310) 539-5198; or at http://www.robinsonheli.com/servelib.htm. You may review a copy of this service information at the FAA, Office of the Regional Counsel, Southwest Region, 2601 Meacham Blvd., Room 663, Fort Worth, Texas 76137.

(h) Subject

Joint Aircraft Service Component (JASC) Code: 3212, Emergency Flotation Section.

Issued in Fort Worth, Texas, on March 6, 2013.
Lance T. Gant,
Acting Directorate Manager, Rotorcraft Directorate, Aircraft Certification Service.

[FR Doc. 2013-06297 Filed 3-25-13; 8:45 am]

BILLING CODE 4910-13-P